NATIONAL SCIENCE FOUNDATION

Notice of the Availability of a Record of Decision Following a Final Comprehensive Environmental Evaluation for Antarctic Activities

AGENCY: National Science Foundation.

ACTION: Notice of availability of a Record of Decision following a Final Environmental Impact Statement/Comprehensive Environmental Evaluation (FEIS/FCEE) for activities proposed to be undertaken in Antarctica.

SUMMARY: The National Science Foundation gives notice of the availability of a Final Environmental Impact Statement/Comprehensive Environmental Evaluation (FEIS/FCEE) for activities proposed to be undertaken in Antarctica.

The Office of Polar Programs (OPP) has decided to proceed with the construction and operation of a high-energy neutrino telescope to be located at the Amundsen-Scott Station, South Pole, Antarctica. Given the United States Antarctic Program's (USAP) mission to support polar research, the proposed action will result in a telescope that has been specifically designed to detect a wide diversity of high-energy neutrinos of astrophysical origin. In reaching this decision, the Director of the Office of Polar Programs has considered the potential environmental impacts addressed in the Project IceCube EIS/CEE. The Director has also considered input from Antarctic Treaty nations and the public pertaining to the EIS/CEE for Project IceCube.

Pursuant to 16 U.S.C. 2403a, the National Science Foundation has prepared this Record of Decision following the Final Environmental Impact Statement/Comprehensive Environmental Evaluation for Project IceCube, Amundsen-Scott Station, South Pole, Antarctica.

ADDRESSES: Copies of the Record of Decision are available upon request from: Dr. Polly A. Penhale, National Science Foundation, Office of Polar Programs, 4201 Wilson Blvd., Suite 755, Arlington, VA 22230. Telephone: (703) 292-8033.

SUPPLEMENTARY INFORMATION: A Notice of Availability of the draft EIS/CEE was published in the Federal Register. Via a Web site link, the draft Project IceCube EIS/CEE was made available for review to all interested parities including Antarctic Treaty nations, international and U.S. Federal agencies, research institutions, private organizations, and individuals. Comments were received and considered as described in Appendix E of the environmental document and include comments from the Australian Antarctic Division, German Federal Environmental Agency, Antarctica New Zealand, and Antarctic Treaty Consultative Meeting (ATCM)/Council on Environmental Protection (CEP). The National Science Foundation has made the Final EIS/CEE for the operation of a high-energy neutrino telescope (Project IceCube) at the South Pole available on the Internet at: http://www.nsf.gov/od/opp/antarct/treaty/cees/icecube/icecube_final_cee.pdf.

Polly A. Penhale,
Environmental Officer, Office of Polar Programs, National Science Foundation.

[FR Doc. 05-917 Filed 1-14-05; 8:45 am]

BILLING CODE 7555-01-M